DEPARTMENT OF THE TREASURY

Internal Revenue Service

26 CFR Part 26

[REG-145988-03]

RIN 1545-BC60

Predeceased Parent Rule

AGENCY: Internal Revenue Service (IRS), Treasury.

ACTION: Cancellation of notice of public hearing on proposed rulemaking.

SUMMARY: This document provides notice of cancellation of a public hearing on proposed rulemaking relating to the predeceased parent rule.

DATES: The public hearing originally scheduled for Tuesday, December 14, 2004, at 10 a.m. is cancelled.

FOR FURTHER INFORMATION CONTACT: Guy R. Traynor, Procedures and Administration, Publications & Regulations Branch, at (202) 622-3693 (not a toll-free number).

SUPPLEMENTARY INFORMATION: A notice of proposed rulemaking and notice of public hearing that appeared in the Federal Register on Friday, September 3, 2004 (69 FR 53862), announced that a public hearing was scheduled for December 14, 2004 at 10 a.m., in the auditorium of the Internal Revenue Service building, 1111 Constitution Avenue NW., Washington, DC. The subject of the public hearing is proposed regulations under section 2651 of the Internal Revenue Code.

The notice of proposed rulemaking and notice of public hearing, instructed those interested in testifying at the public hearing to submit a request to speak and an outline of topics to be addressed by November 23, 2004. As of November 29, 2004, no one has requested to speak. Therefore, the public hearing scheduled for December 14, 2004 is cancelled.

Guy R. Traynor,
Federal Register Liaison, Publications & Regulations Branch, Legal Processing Division, Associate Chief Counsel, (Procedures & Administration).

[FR Doc. 04-26746 Filed 12-3-04; 8:45 am]

BILLING CODE 4830-01-P